DEPARTMENT OF THE INTERIOR

Bureau of Indian Affairs

Colorado River Irrigation Project—Irrigation Division, Arizona, Irrigation Rate Adjustment

AGENCY: Bureau of Indian Affairs, Interior.

ACTION: Final Notice of Rate Adjustment.

SUMMARY: The Bureau of Indian Affairs (BIA) is adjusting irrigation rates for customers of Colorado River Irrigation Project, Irrigation Division for the 2000 irrigation season. The Notice of Proposed Rate Adjustment was published in the Federal Register on July 26, 1999, 64 FR 40387. The public and interested parties were provided an opportunity to submit written comments during the 60-day period subsequent to July 26, 1999. No comments were received.

EFFECTIVE DATE: The new rates are effective for the 2000 irrigation season.

FOR FURTHER INFORMATION CONTACT: Regional Director, Bureau of Indian Affairs, Western Region, P.O. Box 10, Phoenix, Arizona 85001, Telephone (602) 379-6956.

SUPPLEMENTARY INFORMATION: The authority to issue this document is vested in the Secretary of the Interior by 5 U.S.C. 301; the Act of August 14, 1914 (38 Stat. 583; 25 U.S.C. 385). The Secretary has delegated this authority to the Assistant Secretary-Indian Affairs pursuant to part 209 Departmental Manual, Chapter 8.1A and Memorandum dated January 25, 1994, from Chief of Staff, Department of the Interior, to Assistant Secretaries, and Heads of Bureaus and Offices. The new rates are specified in the following schedule.

Irrigation Rate Per Assessable Acre—2000 Irrigation Season

1. When does this schedule apply to me?

This schedule applies to you if you irrigate lands within the CRIP/ID for the 2000 irrigation season.

2. What will BIA charge for the 2000 irrigation season?

The following table shows how we will bill you.

For . . . | We will bill you . . .
(1) Zero to 5 acre-feet/acre | $38.50 per assessable acre.
(2) Excess Water above 5 acre-feet | $17.00 per acre foot.

Executive Order 12988

The Department has certified to the Office of Management and Budget (OMB) that this rate adjustment meets the applicable standards provided in sections 3(a) and 3(b)(2) of Executive Order 12988.

Executive Order 12866

This rate adjustment is not a significant regulatory action and has been reviewed by the Office of Management and Budget under Executive Order 12866.

Regulatory Flexibility Act

This rate making is not a rule for the purposes of the Regulatory Flexibility Act because it is “a rule of particular applicability relating to rates.” 5 U.S.C. 601(2).

Executive Order 12630

The Department has determined that this rate adjustment does not have significant “takings” implications.

Executive Order 12612

The Department has determined that this rate adjustment does not have significant Federalism effects because it pertains solely to Federal-tribal relations and will not interfere with the roles, rights, and responsibilities of states.

NEPA Compliance

The Department has determined that this rate adjustment does not constitute a major Federal action significantly affecting the quality of the human environment and that no detailed statement is required under the National Environmental Policy Act of 1969.

Paperwork Reduction Act of 1995

This rate adjustment does not contain collections of information requiring approval under the Paperwork Reduction Act of 1995.

Unfunded Mandates Act of 1995

This rate adjustment imposes no unfunded mandates on any governmental or private entity and is in compliance with the provisions of the Unfunded Mandates Act of 1995.

Dated: February 28, 2000.
Kevin Gover,
Assistant Secretary—Indian Affairs.

[FR Doc. 00-5424 Filed 3-6-00; 8:45 am]

BILLING CODE 4310-02-P